DEPARTMENT OF HEALTH AND HUMAN SERVICES

National Institutes of Health

Proposed Collection; 60-Day Comment Request: NIH Extramural Harassment Web Form (Office of the Director, Office of Extramural Research)

AGENCY: National Institutes of Health, HHS.

ACTION: Notice.

SUMMARY: In compliance with the requirement of the Paperwork Reduction Act of 1995 to provide opportunity for public comment on proposed data collection projects, the National Institutes of Health (NIH) Office of the Director (OD) Office of Extramural Research (OER) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Patricia Valdez, Chief Extramural Research Integrity Officer, Office of Extramural Research, National Institutes of Health, 6705 Rockledge Dr., Room 811-G MSC 7963, Bethesda, Maryland 20892 or call non-toll-free number (301) 451-2160 or email your request, including your address to: patricia.valdez@nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: NIH Extramural Harassment Web Form, 0925-NEW, exp., date, XX/XX/XXXX, National Institutes of Health (NIH) Office of the Director (OD), Office of Extramural Research (OER).

Need and Use of Information Collection: The purpose of this web form is to assist extramural institutions with complying with Section 239 of the Consolidated Appropriations Act, 2022 (Pub. L. 117-103), Division H, Title II, which requires that “institutions that receive funds through a grant or cooperative agreement during fiscal year 2022 and in future years to notify the Director when individuals identified as a principal investigator or as key personnel in an NIH notice of award are removed from their position or are otherwise disciplined due to concerns about harassment, bullying, retaliation, or hostile working conditions.” The Harassment Web Form will be used as a secure and confidential portal by which recipient institutions notify NIH when individuals identified as a Program Director/Principal Investigator (PD/PI) or other Senior/Key personnel in an NIH notice of award are removed from their position or are otherwise disciplined by the recipient institution due to concerns about harassment, bullying, retaliation, or hostile working conditions, as specified in NOT-OD-22-129. Notification must be provided by the Authorized Organization Representative within 30 days of the removal or disciplinary action and must be submitted to NIH through the Harassment Web Form. All required notifications must include, at a minimum, the name of the Authorized Organization Representative submitting the notification, the name of the individual of concern, a description of the concerns, the action(s) taken, and any anticipated impact on the NIH-funded award(s).

OMB approval is requested for 3 years. There are no costs to respondents other than their time. The total estimated annualized burden hours are 60.

Estimated Annualized Burden Hours
Type of respondents | Number of respondents | Number of responses per respondent | Average burden per response (in hours) | Total annual burden hours
Private Sector (grant recipients) | 140 | 1 | 15/60 | 35
Individuals (general public not in administrative role) | 100 | 1 | 15/60 | 25
Total |  | 240 |  | 60

Dated: June 10, 2022.
Tara A. Schwetz,
Acting Principal Deputy Director, National Institutes of Health.

[FR Doc. 2022-13142 Filed 6-17-22; 8:45 am]

BILLING CODE 4140-01-P